SMALL BUSINESS ADMINISTRATION

Notice Seeking Exemption Under Section 312 of the Small Business Investment Act, Conflicts of Interest

Notice is hereby given that TD Lighthouse Capital Fund, LP (“TD Lighthouse”), 303 Detroit Street, Suite 301, Ann Arbor, Michigan 48104, a Federal Licensee under the Small Business Investment Act of 1958, as amended (“the Act”), in connection with the financing of a small concern, have sought an exemption under section 312 of the Act and section 107.730, Financings which Constitute Conflicts of Interest of the Small Business Administration (“SBA”) rules and regulations (13 CFR 107.730 (2000)). TD Lighthouse proposes to provide equity financing to Scimagix, Inc. (“Scimagix”), 3 Lagoon Drive, Suite 180, Redwood Shores, California 94065. The financing is contemplated for product development and working capital.

The financing is brought within the purview of Section 107.730(a)(1) of the Regulations because TD Origen Capital Fund, L.P., an Associate of TD Lighthouse, currently owns greater than 10 percent of Scimagix, and therefore Scimagix is considered an Associate of TD Lighthouse as defined in Section 107.50 of the regulations.

Notice is hereby given that any interested person may submit written comments on the transaction to the Associate Administrator for Investment, U.S. Small Business Administration, 409 Third Street, SW., Washington, DC 20416.

Dated: March 29, 2001.
Harry Haskins,
Acting Associate Administrator for Investment.

[FR Doc. 01-8566 Filed 4-6-01; 8:45 am]

BILLING CODE 8025-01-U